DEPARTMENT OF COMMERCE

National Oceanic and Atmospheric Administration

50 CFR Part 622

[I.D. 012604B]

Fisheries of the Caribbean, Gulf of Mexico and South Atlantic; Draft Generic Amendment to the Fishery Management Plan (FMP) for the Coastal Migratory Pelagic Resources of the Gulf of Mexico and South Atlantic Region and to the Fishery Management Plan (FMP) for the Reef Fish Resources of the Gulf of Mexico; Scoping Meetings

AGENCY: National Marine Fisheries Service (NMFS), National Oceanic and Atmospheric Administration (NOAA), Commerce.

ACTION: Notice of intent to prepare a draft supplemental environmental impact statement (DSEIS); notice of scoping meetings; and request for comments.

SUMMARY: The Gulf of Mexico Fishery Management Council (Council) intends to prepare a DSEIS that describes and analyzes management alternatives associated with limiting access in the king mackerel and reef fish fisheries. The purpose of this notice is to solicit public comments on the scope of issues to be addressed in the DSEIS, which will be submitted to NMFS for filing with the Environmental Protection Agency (EPA) for publication of a Notice of Availability for public comment.

DATES: Written comments must be received by the Council by 5 p.m. on March 5, 2004 (see ADDRESSES). A series of scoping meetings will be held in February and March 2004. See SUPPLEMENTARY INFORMATION for specific dates and times.

ADDRESSES: The Gulf of Mexico Fishery Management Council, 3018 North U.S. Highway 301, Suite 1000, Tampa, FL 33619; telephone: (813) 228-2815; fax: (813) 225-7015. Comments may also be sent by e-mail to: Rick.Leard@gulfcouncil.org.

FOR FURTHER INFORMATION CONTACT: Rick Leard; phone: (813) 228-2815 ext. 228; fax: (813) 225-7015; e-mail: Rick.Leard@gulfcouncil.org.

SUPPLEMENTARY INFORMATION: King mackerel and reef fish in the Gulf of Mexico are managed under their respective FMPs. Both fisheries operate under a moratorium on the issuance of new commercial vessel permits. The moratorium on new king mackerel permits was established by Amendment 8 to the Mackerel FMP in March 1998, and was extended with the implementation of Amendment 12 to the Mackerel FMP. It is scheduled to expire on October 15, 2005. The moratorium on the issuance of new commercial reef fish permits was established by Amendment 4 to the Reef Fish FMP in May 1992. The moratorium has been maintained since that time with the implementation of Amendments 9, 11, and 17 to the Reef Fish FMP. It is scheduled to expire on December 31, 2005.

The Council intends to develop a DSEIS that describes and analyzes management alternatives to limit entry in the king mackerel and reef fish fisheries. Those alternatives include, but are not limited to the following: (1) A “no action” alternative regarding each fishery, which would allow the moratoria to expire; (2) An extension of the existing moratoria for a designated time frame; or (3) The establishment of some form of license limitation system for each fishery, including individual fishing quotas. If a license limitation system is chosen, the Council may also consider alternatives for different classes of licenses, initial qualification, initial allocations by license classes, transferability, and appeals regarding eligibility.

In accordance with NOAA Administrative Order 216-6, Section 5.02(c), the Council has identified this preliminary range of alternatives as a means to initiate discussion for scoping purposes only. This may not represent the full range of alternatives that eventually will be evaluated by the Council. Copies of the scoping document will be available at the meetings and are available prior to the meetings from the Council office (see ADDRESSES).

The scoping meetings will be held at the following locations and dates from 6 p.m. followed by hearings on a Generic Marine Aquaculture Amendment (noticed separately) and will conclude by 10 p.m.

1. Tuesday, February 17, 2004, Adams Mark Hotel and Resort, 64 South Water Street, Mobile, AL 36602; telephone: (251) 438-4000;

2. Wednesday, February 18, 2004, J.L. Scott Marine Education Center and Aquarium, 115 Beach Boulevard, Biloxi, MS 39530; telephone: (228) 374-5550;

3. Thursday, February 19, 2004, Larose Regional Park, 2001 East 5th Street, Larose, LA 70373; telephone: (504) 693-7355;

4. Monday, February 23, 2004, Holiday Inn Emerald Beach, 1102 South Shoreline Boulevard, Corpus Christi, TX 78401; telephone: (361) 883-5731;

5. Tuesday, February 24, 2004, Moody Gardens Hotel, 7 Hope Boulevard, Galveston, TX 77554; telephone: (409) 741-8484;

6. Wednesday, February 25, 2004, National Marine Fisheries Service, Panama City Laboratory, 3500 Delwood Beach Road, Panama City, FL 32408; telephone: (850) 234-6541 ext. 201;

7. Thursday, February 26, 2004, Madeira Beach City Hall Auditorium, 300 Municipal Drive, Madeira Beach, FL 33708; telephone: (727) 391-9951; and

8. Monday, March 1, 2004, Holiday Inn Beachside, 3841 North Roosevelt Boulevard, Key West, FL 33040; telephone: (305) 294-2571.

Special Accommodations

The meetings will be physically accessible to people with disabilities. Requests for sign language interpretation or other auxiliary aids should be directed to Trish Kennedy at the Council (see ADDRESSES) by February 13, 2004.

Dated: February 9, 2004.
Bruce C. Morehead,
Acting Director, Office of Sustainable Fisheries, National Marine Fisheries Service.

[FR Doc. 04-3282 Filed 2-12-04; 8:45 am]

BILLING CODE 3510-22-S